NUCLEAR REGULATORY COMMISSION

[NRC-2020-0278]

Measuring, Evaluating, and Reporting Radioactive Material in Liquid and Gaseous Effluents and Solid Waste

AGENCY: Nuclear Regulatory Commission.

ACTION: Regulatory guide; issuance.

SUMMARY: The U.S. Nuclear Regulatory Commission (NRC) is issuing revision 3 of Regulatory Guide (RG) 1.21, “Measuring, Evaluating, and Reporting Radioactive Material in Liquid and Gaseous Effluents and Solid Waste.” The revision of RG describes an approach that is acceptable to the staff of the NRC to meet regulatory requirements for; (1) measuring, evaluating, and reporting plant related radioactivity in effluents and solid radioactive waste shipments from NRC licensed facilities, and (2) assessing and reporting the public dose to demonstrate compliance with NRC regulations.

DATES: Revision 3 of RG 1.21 is available on September 23, 2021.

ADDRESSES: Please refer to Docket ID NRC-2020-0278 when contacting the NRC about the availability of information regarding this document. You may obtain publicly available information related to this document using any of the following methods:

• Federal Rulemaking Website: Go to https://www.regulations.gov and search for Docket ID NRC-2020-0278. Address questions about Docket IDs in Regulations.gov to Stacy Schumann; telephone: 301-415-0624; email: Stacy.Schumann@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents is currently closed. You may submit your request to the PDR via email at pdr.resource@nrc.gov or call 1-800-397-4209 or 301-415-4737 between 8:00 a.m. and 4:00 p.m. (ET), Monday through Friday, except Federal holidays.

Revision 3 of RG 1.21 and the regulatory analysis may be found in ADAMS under Accession Nos. ML21139A224 and ML20287A434, respectively.

Regulatory guides are not copyrighted, and NRC approval is not required to reproduce them.

FOR FURTHER INFORMATION CONTACT: Steven Garry, Office of Nuclear Reactor Regulation, telephone: 301-415-2766, email: Steven.Garry@nrc.gov, and Kyle Song, Office of Nuclear Regulatory Research, telephone: 301-415-3637, email: Kyle.Song@nrc.gov. Both are staff of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

II. Additional Information

Revision 3 of RG 1.21 was issued with a temporary identification of Draft Regulatory Guide (DG) 1377. The NRC published a notice of the availability of DG-1377 in the Federal Register on January 5, 2021, (86 FR 326) for a 45-day public comment period. The public comment period closed on February 19, 2021. Public comments on DG-1377 and the staff responses to the public comments are available under ADAMS under Accession No. ML21132A226.

III. Congressional Review Act

This RG is a rule as defined in the Congressional Review Act (5 U.S.C. 801-808). However, the Office of Management and Budget has not found it to be a major rule as defined in the Congressional Review Act.

IV. Backfitting, Forward Fitting and Issue Finality

Revision 3 of RG 1.21 does not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52. As explained in Revision 3 of RG 1.21, applicants and licensees would not be required to comply with the positions set forth in the RG.

Dated: September 17, 2021.
For the Nuclear Regulatory Commission.
Meraj Rahimi,
Chief, Regulatory Guide and Programs Management Branch, Division of Engineering, Office of Nuclear Regulatory Research.

[FR Doc. 2021-20565 Filed 9-22-21; 8:45 am]

BILLING CODE 7590-01-P